DEPARMENT OF AGRICULTURE

Forest Service

Revision of the Shoshone National Forest Land and Resource Management Plan

AGENCY: Forest Service, USDA.

ACTION: Notice of Intent to revise the Shoshone National Forest Land and Resource Management Plan and prepare an environmental impact statement.

SUMMARY: As directed by the National Forest Management Act (NFMA), the USDA Forest Service is preparing the Shoshone National Forest's revised land management plan (forest plan) and an environmental impact statement (EIS) for this revised forest plan. This notice briefly describes the nature of the decision to be made, the need for change and proposed action, and information concerning public participation. It also provides estimated dates for filing the EIS and the name and address of the responsible agency official and the individual who can provide additional information.

Finally, this notice briefly describes the applicable planning rule and how plan revision work completed under the 2008 planning rule will be used or modified for completing this plan revision.

The revised land management plan will supersede the 1986 forest plan, as amended. The amended plan will remain in effect until the revision takes effect.

DATES: Comments concerning the need for change and the proposed action provided in this notice will be most useful in the development of the draft revised plan and draft EIS if received by November 19, 2010. The agency expects to release a draft revised forest plan and draft EIS for formal comment by May 2012 and a final revised plan and final environmental impact statement by April 2013.

Public meetings to gather additional input on potential alternatives to the proposed action are scheduled for winter/spring 2011. The dates, times, and locations of these meetings will be announced and sent to members of the plan revision mailing list and posted on the Shoshone National Forest Web site at http://www.fs.usda.gov/shoshone.

ADDRESSES: Send written comments to Forest Plan Revision, Shoshone National Forest, 808 Meadow Lane Avenue, Cody, WY 82414. Comments may also be sent via e-mail to shoshone_forestplan@fs.fed.us.

FOR FURTHER INFORMATION CONTACT: Olga Troxel, acting planning team leader, 808 Meadow Lane Avenue, Cody, WY 82414, telephone 307.578.5164. Information on this revision is also available on the Shoshone National Forest Web site at http://www.fs.usda.gov/shoshone.

Individuals who use telecommunication devices for the deaf (TDD) may call the Federal Information Relay Service (FIRS) at 800-877-8339 between 8 a.m. and 8 p.m., Eastern Time, Monday through Friday.

SUPPLEMENTARY INFORMATION:

Name and Address of the Responsible Official

The responsible official who will approve the Record of Decision is Rick Cables, Regional Forester, USDA Forest Service, Rocky Mountain Region, 740 Simms Street, Denver, CO 80401.

Cooperating Agencies

Cooperating Agencies include the State of Wyoming, Fremont County, Hot Springs County, Park County, Cody Conservation District, Dubois-Crowheart Conservation District, Hot Springs Conservation District, Lower Wind River Natural Resource District. Meeteetse Conservation District, Popo Agie Conservation District, and Teton Conservation District. Cooperating Agencies funded the social and economic assessments. They also work with Forest Service officials to address state and local government interests in the planning process and the development of plan direction.

Nature of the Decision To Be Made

The Forest Service is preparing an EIS to revise the 1986 forest plan. The EIS process is meant to inform the regional forester when deciding which alternative best meets the need to achieve quality land management under the sustainable multiple-use management concept to meet the diverse needs of people while protecting the Shoshone National Forest's resources, as required by the NFMA and the Multiple Use Sustained Yield Act.

The revised forest plan describes the strategic intent of managing the Shoshone National Forest for 10 to 15 years. The revised forest plan provides management direction in the form of goals (desired conditions), objectives, suitability determinations, standards, guidelines, and a monitoring plan. It also makes special area recommendations for wilderness, research natural areas, and other special areas.

It is also important to identify the types of decisions that will not be made within the revised forest plan. Authorization of project-level activities on the Shoshone National Forest is not a decision made in the forest plan, but occurs through subsequent project specific decision making. The designation of routes and trails for specific uses is not considered during plan revision, but will be addressed through subsequent planning processes.

Some issues, although important, are beyond the authority or control of the Shoshone National Forest or the Forest Service and will not be considered. Additionally, some decisions and determinations, such as management direction, Canada lynx conservation, and the Clarks Fork of the Yellowstone Wild River corridor, have been accomplished through separate forest plan amendment processes that occurred recently and will not be reconsidered in revision.

Applicable Planning Rule

Preparation of a revised plan is governed by the requirements of the NFMA and the associated regulations (or rule) at 36 CFR 219. The Shoshone plan revision was underway when the 2008 rule was enjoined on June 30, 2009, by the United States District Court for the Northern District of California (Citizens for Better Forestry v. United States Department of Agriculture, 632F. Supp. 2d 968 (N.D. Cal. June 2009)).

On December 18, 2009, the Department reinstated the previous planning rule, commonly known as the 2000 planning rule, in the Federal Register (74 FR 242, pages 67059 through 67075 [Friday, December 18, 2009]). The transition provisions of the reinstated rule allow the Forest Service to follow the procedures of a previous 1982 rule. The Shoshone National Forest has elected to use the provisions of the 1982 rule, including the requirement to prepare an ETS to complete the revised plan.

Prior Plan Revision Efforts

In spring 2005, the Shoshone National Forest began working on revision of the forest plan. Eleven public and cooperator meetings were held in May and June 2005 to begin collaboration on the revision and the need for change questions. In September 2005, a notice of intent was published in the Federal Register, announcing the beginning of the revision process under the 2005 planning rule. In September 2005, the forest supervisor published the Need for Change document that summarized the comments received on need for change. Twelve public and cooperator meetings were held in September and October 2005 to discuss the need for change and the development of revision topics. The forest supervisor identified the revision topics to be addressed in plan revision in a document published in December 2005.

From January 2006 through February 2007, work began on developing plan direction and an associated draft forest plan. Numerous documents were produced for public review and consideration. Fifty-three public and cooperator meetings were held to discuss the development of plan direction.

In March 2007, further work developing a draft plan was halted with the injunction of the 2005 planning rule. In May 2008, the Forest Supervisor published a notice of adjustment to continue with plan revision under the 2008 planning rule. Information produced under the 2005 planning rule was used to produce a draft plan under the 2008 planning rule.

In May 2008 and April 2009, 10 public and cooperator meetings were held to continue work on developing and refining plan direction. Work on plan revision halted with the court injunction of the 2008 planning rule in June 2009.

Although the 2008 planning rule is no longer in effect, information gathered prior to the court's injunction is useful for completing the revision of the plan using the provisions of the 1982 rule. The documents listed here include the majority of material developed for plan revision as of April 2009. This material is posted on the Shoshone National Forest Web site at http://www.fs.usda.gov/shoshone. The following describes the material that is appropriate for continued use in the revision process:

1. Comprehensive Evaluation Report (CER) (April 2009)—Much of the background material in this report will be carried forward in the Analysis of the Management Situation or draft EIS. The CER documents the evaluation of the 1986 forest plan and proposed change and evaluates current social, economic, and ecological conditions and trends that contribute to sustainability. The CER identifies factors that affect conditions and trends, and includes information about what is causing conditions to change. Much of this information will continue to be used in the revision process.

2. An Economic Profile of the Shoshone National Forest (draft dated May 2008)—This report is not rule specific and is appropriate for use in revision. The economic information in the report will be updated with the latest information.

3. Evaluation of Areas for Potential Wilderness (August 2008)—This information is consistent with appropriate provisions of the 1.982 rule and will be brought forward into the revision.

4. Potential Research Natural Areas (August 2008) and Potential Special Interest Areas (August 2008)—This information is not rule specific and will be carried forward into the revision.

5. Wild and Scenic River Eligibility Evaluation (August 2008)—The eligibility determination is consistent with the provisions of the 1982 rule and will be brought forward into the revision.

6. Report: Study of Preferences and Values on the Shoshone National Forest (January 2008) and Social Survey Comments (January 2008)—This information is not rule specific and will be carried forward into the revision.

Additional background reports, assessments, datasets, and public comment will be used; much of this material can be found on the Shoshone's Web site. As necessary or appropriate, the material listed above will be adjusted further as part of the planning process using the provisions of the 1982 rule.

Need for Change and Proposed Action

According to the National Forest Management Act, forest plans are to be revised on a 10- to 15-year cycle. The purpose and need for revising the current forest plan are (1) the forest plan is over 20 years old, and (2) since the forest plan was approved in 1986, there have been changes in economic, social, and ecological conditions, new policies and priorities, and new information based on monitoring and scientific research. Extensive public and employee collaboration, along with science-based evaluations, identified the need for change in the 1986 forest plan. This need for change has been organized into six revision topics that are listed below. Input on need for change is documented in Need for Change (September 2005).

Proposed Action

The proposed action will be developed using the information that has been developed and summarized over the last five years: Public comments, public working groups, proposed plans, and other documents. Much of this information can be found on the Shoshone's Web site and includes Draft Proposed Land Management Plan (April 2009), maps of draft recreation settings (April 2009), range of settings maps (May 2008), suggested settings from the public (May 2008), settings maps (January 2007), Need for Change Evaluation (September 2005), and Revision Topics (December 2005). The information in these documents and maps are the result of internal and external discussions with agency employees, the public, and cooperators, including over 88 meetings. The Shoshone planning team proposes to review the work that has been completed to date to develop a proposed action and range of alternatives.

Revision Topics

The Forest Service proposes to carry forward the revision topics as documented in Revision Topics (December 2005). These revision topics represent questions that need to be addressed during plan revision. The selection of the topics was based upon both the need for change from the existing Forest Plan and the strong public interest in how the revised plan will answer these questions. These topics were the ones identified repeatedly in the public meetings held across the forest and by the Government Cooperators Work Group.

1. Recreation uses and opportunities—What type of recreation opportunities will be provided on the forest, where can they occur, and when can they occur?

2. Special areas and designations—How will the Dunoir Special Management Unit and High Lakes Wilderness Study Area be managed? Will new designated wilderness areas be recommended? Will any new research natural areas or special interest areas be designated?

3. Vegetation management—What areas will be suitable for timber harvest? How will hazardous fuels be managed? How will forest health and the impacts from the beetle epidemic be addressed? What mix of vegetation types and conditions will be maintained on the Shoshone?

4. Wildlife habitat management— What will the management direction be for wildlife species, including big game species? How will wildlife corridors and secure habitat areas be managed? What management direction applies to the management of streams and lakes for native fish and aquatic life?

5. Minerals—What areas of the Shoshone are suitable for mineral, oil, and gas development?

6. Commercial livestock grazing—What areas of the Shoshone are suitable for livestock grazing?

Public Involvement

Extensive public involvement and collaboration on revising the 1986 Shoshone National Forest Land and Resource Management Plan have occurred over the last five years. Discussions with the public regarding needed changes to the 1986 forest plan began with a series of public meetings in 2005. This input, along with science-based evaluations, were used to determine a need for change and a proposed plan. Correspondence, news releases, comment periods, and other tools were used to gather feedback from the public, Shoshone National Forest employees, tribal governments, federal and state agencies, and local governments.

We desire to continue collaborative efforts with members of the public who are interested in management of the Shoshone, as well as federal and state agencies, local governments, and private organizations. If you feel we missed any substantive issues or concerns from those listed above as revision topics or as identified in the Need for Change document, or additional, different comments from those previously provided on the draft proposed plan, please contact us.

If you do wish to comment, it is important that you provide comments at such times and in such a way (clearly articulate your concerns) that they are useful to the Agency's preparation of the revised plan and the EIS. Therefore, comments on the proposed action and need for change will be most valuable if received by November 19, 2010. The submission of timely and specific comments can affect a reviewer's ability to participate in subsequent administrative or judicial review. At this time, we anticipate using the 2000 planning rule pre-decisional objection process (36 CFR 219.32) for administrative review.

Comments received in response to this solicitation, including the names and addresses of those who comment, will be part of the public record. Comments submitted anonymously will be accepted and considered.

Authority: 16 U.S.C. 1600-1614; 36 CFR 219.35 [74 FR 67073-67074].

Dated: September 16, 2010.
David M. Pieper,
Acting Forest Supervisor, Shoshone National Forest.

[FR Doc. 2010-23752 Filed 9-23-10; 8:45 am]

BILLING CODE 3410-11-M